DEPARTMENT OF TRANSPORTATION

Federal Aviation Administration

14 CFR Part 39

[Docket No. FAA-2006-23820; Directorate Identifier 2005-NM-249-AD; Amendment 39-14578; AD 2004-03-15 R1]

RIN 2120-AA64

Airworthiness Directives; Bombardier Model DHC-8-102, -103, -106, -201, -202, -301, -311, and -315 Airplanes

AGENCY: Federal Aviation Administration (FAA), Department of Transportation (DOT).

ACTION: Final rule.

SUMMARY: The FAA is revising an existing airworthiness directive (AD) that applies to certain Bombardier Model DHC-8-102, -103, -106, -201, -202, -301, -311, and -315 airplanes. That AD currently requires performing a one-time inspection to detect chafing of electrical wires in the cable trough below the cabin floor; repairing, if necessary; installing additional tie-mounts and tie-wraps; applying sealant to rivet heads; and modifying electrical wires in certain sections. We issued that AD to prevent chafing of electrical wires. This new AD, for certain airplanes, eliminates the requirement to modify electrical wires in certain sections. This AD results from a report indicating that the modification of electrical wires does not need to be done on certain airplanes subject to the existing AD. We are issuing this AD to prevent chafing of electrical wires, which could result in an uncommanded shutdown of an engine during flight.

DATES: The effective date of this AD is March 19, 2004.

On March 19, 2004 (69 FR 7111, February 13, 2004), the Director of the Federal Register approved the incorporation by reference of Bombardier Service Bulletin 8-53-80, Revision “A”, dated July 25, 2000.

On October 27, 1998 (63 FR 50501, September 22, 1998) the Director of the Federal Register approved the incorporation by reference of Bombardier Service Bulletin S.B. 8-53-66, dated March 27, 1998.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Douglas G. Wagner, Aerospace Engineer, Systems and Flight Test Branch, ANE-172, New York Aircraft Certification Office, FAA, 1600 Stewart Avenue, Suite 410, Westbury, New York 11590; telephone (516) 228-7306; fax (516) 794-5531.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA proposed to amend part 39 of the Federal Aviation Regulations (14 CFR part 39) with an airworthiness directive (AD) to revise AD 2004-03-15, amendment 39-13459 (69 FR 7111, February 13, 2004). The existing AD applies to certain Bombardier Model DHC-8-102, -103, -106, -201, -202, -301, -311, and -315 airplanes. The proposed AD was published in the Federal Register on February 8, 2006 (71 FR 6408) to, for certain airplanes, eliminate the requirement to modify electrical wires in certain sections.

Comments

We provided the public the opportunity to participate in the development of this AD. We received no comments on the NPRM or on the determination of the cost to the public.

Changes to NPRM

We have corrected a typographical error in paragraph (i) of the NPRM by changing the date of the Canadian airworthiness directive.

We have also revised the model designations in the NPRM to match the format of the model designations in AD 2004-03-15.

Conclusion

We have carefully reviewed the available data and determined that air safety and the public interest require adopting the AD with the change described previously. We have determined that this change will neither increase the economic burden on any operator nor increase the scope of the AD.

Costs of Compliance

This new AD adds no new costs to affected operators; in fact, it reduces the costs for airplanes that are not subject to the modification of certain wiring.

We estimate that 173 airplanes of U.S. registry will be subject to the inspection, installation of additional tie-mounts and tie-wraps, and application of sealant to rivet heads that are currently required by AD 2004-03-15. These actions take between 80 and 100 work hours per airplane, at an average labor rate of $65 per work hour. Required parts are provided by the manufacturer at no cost to the operator. Based on these figures, the estimated cost of these actions on U.S. operators is between $899,600 and $1,124,500, or between $5,200 and $6,500 per airplane.

We estimate that 103 airplanes of U.S. registry are subject to the modification of certain wiring that is currently required by AD 2004-03-15. This action takes approximately 10 work hours per airplane, at an average labor rate of $65 per work hour. Required parts are provided by the manufacturer at no cost to the operator. Based on these figures, the estimated cost of the modification on U.S. operators is $66,950, or $650 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13459 (69 FR 7111, February 13, 2004) and adding the following new airworthiness directive (AD):

2004-03-15 R1 Bombardier, Inc. (Formerly de Havilland, Inc.): Amendment 39-14578. Docket No. FAA-2006-23820; Directorate Identifier 2005-NM-249-AD.

Effective Date

(a) The effective date of this AD is March 19, 2004.

Affected ADs

(b) This AD revises AD 2004-03-15.

Applicability

(c) This AD applies to Bombardier Model DHC-8-102, -103, -106, -201, -202, -301, -311, and -315 airplanes; certificated in any category; serial numbers 3 through 540 inclusive, excluding serial number 462.

Unsafe Condition

(d) This AD results from a report indicating that the modification of electrical wires does not need to be done on certain airplanes subject to the existing AD. We are issuing this AD to prevent chafing of electrical wires, which could result in an uncommanded shutdown of an engine during flight.

Compliance

(e) You are responsible for having the actions required by this AD performed within the compliance times specified, unless the actions have already been done.

Requirements of AD 2004-03-15

One-time Inspection, Corrective Action, and Modification

(f) Perform a one-time general visual inspection to detect chafing of electrical wires in the cable trough below the cabin floor; install additional tie-mounts and tie-wraps; and apply sealant to rivet heads (reference Bombardier Modification 8/2705); in accordance with Bombardier Service Bulletin S.B. 8-53-66, dated March 27, 1998, at the time specified in paragraph (f)(1) or (f)(2) of this AD, as applicable. If any chafing is detected during the inspection required by this paragraph, prior to further flight, repair in accordance with the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) For airplanes having serial numbers 3 through 518 inclusive, excluding serial number 462: Inspect within 36 months after October 27, 1998 (the effective date of AD 98-20-14, amendment 39-10781).

(2) For airplanes having serial numbers 519 through 540 inclusive: Inspect within 36 months after November 10, 1999 (the effective date of AD 99-21-09, amendment 39-11352, which superseded AD 98-20-14), or at the next “C” check, whichever occurs first.

Modification

(g) For Model DHC-8-102, -103, and -106 airplanes; and Model DHC-8-201 and -202 series airplanes: Within 36 months after March 19, 2004 (the effective date of AD 2004-03-15), modify the electrical wires in the cable trough below the cabin floor at Sections X510.00 to X580.50 (including performing a general visual inspection and any applicable repair), in accordance with Part III, paragraphs 1 through 9 and 12 through 20, of the Accomplishment Instructions of Bombardier Service Bulletin 8-53-80, Revision “A,” dated July 25, 2000. Any applicable repair must be done before further flight. Accomplishment of these actions before March 19, 2004, in accordance with Bombardier Service Bulletin 8-53-80, dated December 22, 1999, is considered acceptable for compliance with the actions required by this paragraph.

Alternative Methods of Compliance (AMOCs)

(h)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Canadian airworthiness directive CF-1998-08R2, dated July 12, 2000, also addresses the subject of this AD.

Material Incorporated by Reference

(j) You must use Bombardier Service Bulletin S.B. 8-53-66, dated March 27, 1998; and Bombardier Service Bulletin 8-53-80, Revision “A,” dated July 25, 2000; as applicable, to perform the actions that are required by this AD, unless the AD specifies otherwise.

(1) On March 19, 2004 (69 FR 7111, February 13, 2004), the Director of the Federal Register approved the incorporation by reference of Bombardier Service Bulletin 8-53-80, Revision “A,” dated July 25, 2000.

(2) The incorporation by reference of Bombardier Service Bulletin S.B. 8-53-66, dated March 27, 1998, was approved previously by the Director of the Federal Register as of October 27, 1998 (63 FR 50501, September 22, 1998).

(3) Contact Bombardier, Inc., Bombardier Regional Aircraft Division, 123 Garratt Boulevard, Downsview, Ontario M3K 1Y5, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 19, 2006.
Kalene C. Yanamura,
Acting Manager, Transport Airplane Directorate, Aircraft Certification Service.

[FR Doc. 06-4050 Filed 5-1-06; 8:45 am]

BILLING CODE 4910-13-P